DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Constituent Engagement Survey.

OMB Control Number: None.

Form Number(s): NA.

Type of Request: Regular submission (new information collection).

Number of Respondents: 650.

Average Hours per Response: 20 minutes.

Burden Hours: 217.

Needs and Uses: On August 9, 2007, President Bush signed legislation into law the America COMPETES (America Creating Opportunities to Meaningfully Promote Excellence in Technology, Education and Science Act, Pub. L. 110-69), which seeks to strengthen education and research related to science and technology (“America Creating Opportunities to Meaningfully Promote Excellence in Technology, Education, and Science Act”). This legislation is significant for NOAA, granting the agency a mandate to engage in agency-wide education and outreach efforts to all stakeholders. Because NOAA's information, products and services are important to both the nation as a whole and to the daily lives of U.S. citizens, NOAA's Science Advisory Board (SAB) has identified a need for more effective two-way communication between its programs and the customers and clients it serves. To achieve this goal, NOAA has also developed a survey instrument to collect responses from core groups of NOAA constituents. The survey instrument will assess NOAA's accessibility, responsiveness and respect for partners. One objective of the survey is to collect responses to provide NOAA with information and feedback from its constituents that will lead to greater emphasis placed on the needs of NOAA partners, techniques to improve NOAA's products and services, and general improvement in the accessibility and responsiveness of NOAA to constituents. A longer term objective for this survey is to become a standard NOAA tool accessing engagement with constituents.

Affected Public: Business or other for-profit organizations; not-for-profit institutions; state, local or tribal government; Federal Government.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 4, 2010.
Gwellnar Banks,
Management Analyst, Office of the Chief Information Officer.

[FR Doc. 2010-19598 Filed 8-9-10; 8:45 am]

BILLING CODE 3510-KA-P